COMMITTEE FOR PURCHASE FROM PEOPLE WHO ARE BLIND OR SEVERELY DISABLED

Procurement List, Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products from the Procurement List previously furnished by such agency.

DATES: Effective Date: 9/12/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 5/20/2011 (76 FR 29210-29211) and 6/17/2011 (76 FR 35415-35417), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7530-00-NIB-0993—Pocket Folder, Classification, Letter Size, Earth Red

NSN: 7530-00-NIB-0994—Pocket Folder, Classification, Letter Size, Light Green

NSN: 7530-00-NIB-0995—Pocket Folder, Classification, Letter Size, Dark Green

NSN: 7530-00-NIB-0996—Pocket Folder, Classification, Letter Size, Light Blue

NSN: 7530-00-NIB-0997—Pocket Folder, Classification, Letter Size, Dark Blue

NSN: 7530-00-NIB-0998—Pocket Folder, Classification, Letter Size, Dark Red

NSN: 7530-00-NIB-0999—Pocket Folder, Classification, Letter Size, Yellow

NSN: 7530-00-NIB-1000—Pocket Folder, Classification, Legal Size, Earth Red

NSN: 7530-00-NIB-1001—Pocket Folder, Classification, Legal Size, Light Green

NSN: 7530-00-NIB-1002—Retention Envelope/Jacket, Letter and Legal Sizes

NPA: Georgia Industries for the Blind, Bainbridge, GA

Contracting Activity: General Services Administration, New York, NY

Coverage: A-List for the Total Government Requirement as aggregated by the General Services Administration.

NSN: 7045-00-NIB-0369—Privacy Shield, 16:9 Aspect Ratio Computer Monitor, 14.0 Widescreen

NSN: 7045-00-NIB-0370—Privacy Shield, 16:9 Aspect Ratio Computer Monitor, 15.6 Widescreen

NSN: 7045-00-NIB-0374—Privacy Shield, 16:9 Aspect Ratio Computer Monitor, 17.3 Widescreen

NSN: 7045-00-NIB-0371—Privacy Shield, 16:9 Aspect Ratio Computer Monitor, 18.5 Widescreen

NSN: 7045-00-NIB-0372—Privacy Shield, 16:9 Aspect Ratio Computer Monitor, 20.0 Widescreen

NSN: 7045-00-NIB-0373—Privacy Shield, 16:9 Aspect Ratio Computer Monitor, 21.5 Widescreen

Coverage: A-List for the Total Government Requirement as aggregated by the General Services Administration.

NSN: 7045-00-NIB-0367—Anti-Glare Display Shield, iPad

NSN: 7045-00-NIB-0368—Privacy Shield, iPad

NSN: 7045-00-NIB-0345—Privacy Shield, Netbooks, 10.1 Widescreen

Coverage: B-List for the Broad Government Requirement as aggregated by the General Services Administration.

NPA: Wiscraft, Inc., Milwaukee, WI

Contracting Activity: General Services Administration, New York, NY

NSN: 5180-00-NIB-0007—Tool Kit, Peel & Stick NonSkid Application, New Installation, Standard Sizes

NSN: 5180-00-NIB-0008—Tool Kit, Peel & Stick NonSkid Kit Application, New Installation, Custom Kits

NSN: 5180-00-NIB-0009—Tool Kit, Peel & Stick NonSkid Kit Application, Repair and Maintenance, All Kits

NPA: Louisiana Association for the Blind, Shreveport, LA

Contracting Activity: Department of Homeland Security, U.S. Coast Guard, HQ Contract Operations, Washington, DC

Coverage: C-List for 100% of the requirement of the U.S. Coast Guard as aggregated by the U.S. Coast Guard, Lockport, LA.

NSN: M.R. 1031—Rag, Cleaning, Red

NSN: M.R. 1032—Rag, Cleaning, White

NPA: Winston-Salem Industries for the Blind, Inc., Winston-Salem, NC

NSN: M.R. 1157—Set, Knife and Peeler, Ceramic, Kitchen Samurai

NSN: M.R. 1150—Set, Mold, Cupcake, Red, Giant Cupcake, 3pc

NSN: M.R. 1151—Set, Pan, Bake, Perfect Brownie Pan, 3pc

NSN: M.R. 1152—Set, Pasta Cooker, Blue, Pasta Express, 7pc

NSN: M.R. 1155—Glove, Oven, Flexi

NSN: M.R. 1156—Device, Cutting, Multi-Use, Green, Snip It

NPA: Industries for the Blind, Inc., West Allis, WI

Contracting Activity: Military Resale-Defense Commissary Agency, Fort Lee, VA

Coverage: C-List for the requirements of military commissaries and exchanges as aggregated by the Defense Commissary Agency.

NSN: 7045-00-NIB-0348—Encrypted Compact Disc, Recordable, 25 CDs on Spindle, Silver

NSN: 7045-00-NIB-0349—Encrypted Digital Video Disc, Recordable, 25 DVDs on Spindle, Silver

NPA: North Central Sight Services, Inc., Williamsport, PA

Contracting Activity: Defense Logistics Agency Troop Support, Philadelphia, PA

Coverage: A-List for the Total Government Requirement as aggregated by the Defense Logistics Agency, Philadelphia, PA.

Services

Service Type/Location:

Laundry Services, U.S. Naval Hospital & Naval Dental Clinic Base, Farenholt Road, Agana Heights, GU.

NPA: iCAN Resources, Inc., Dededo, GU

Contracting Activity: Dept of the Navy, FISC Pearl Harbor, HI

Service Type/Location:

Laundry Services, Department of Veterans Affairs, Indianapolis, IN. (Offsite: 118 E Court Street, Paris, IL)

NPA: Human Resources Center of Edgar and Clark Counties, Paris, IL

Contracting Activity: Department of Veterans Affairs, VISN 11, Indianapolis, IN

Deletions

On 4/8/2011 (76 FR 19750-19751), the Committee for Purchase From People Who Are Blind or Severely Disabled published notice of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Anti-fatigue Mat, Recycled Content

NSN: 7220-01-582-6232—Gray, 2x3′

NSN: 7220-01-582-6234—Gray, 3x5′

NPA: Wiscraft, Inc., Milwaukee, WI

Contracting Activity: General Services Administration, Fort Worth, TX

Patricia Briscoe,
Deputy Director, Business Operations, Pricing and Information Management.

[FR Doc. 2011-20561 Filed 8-11-11; 8:45 am]

BILLING CODE 6353-01-P